ENVIRONMENTAL PROTECTION AGENCY

[EPA-R08-SFUND-2023-0334; FRL: 11151-02-R8]

Administrative Settlement Agreement for Response Action by Bona Fide Prospective Purchaser, Central City/Clear Creek Superfund Site, Four Points Funding, LLC, Clear Creek County, Colorado; Correction

AGENCY: Environmental Protection Agency (EPA).

ACTION: Notice, correction.

SUMMARY: The Environmental Protection Agency (EPA) published a notice in the Federal Register on August 1, 2023, requesting comments on a prospective administrative settlement agreement for response action between the United States, the State of Colorado, and Four Points Funding, LLC, at the Central City/Clear Creek Superfund Site in Clear Creek County, Colorado. This notice corrects errors contained in the document.

ADDRESSES: The proposed agreement and additional background information relating to the agreement will be available upon request and will be posted at https://www.epa.gov/superfund/centralcity. Comments are still being accepted and requests for an electronic copy of the proposed agreement should be addressed to Crystal Kotowski-Edmunds, Enforcement Specialist, Superfund and Emergency Management Division, Environmental Protection Agency-Region 8, Mail Code 8SEM-PAC, 1595 Wynkoop Street, Denver, Colorado 80202, or telephone number: (303) 312-6124, or email address: edmunds.crystal@epa.gov and should reference the Central City/Clear Creek Superfund Site.

You may also send comments, identified by Docket ID No. EPA-R08-SFUND-2022-0281 to http://www.regulations.gov. Follow the online instructions for submitting comments.

FOR FURTHER INFORMATION CONTACT: Crystal Kotowski-Edmunds, Superfund and Emergency Management Division, Cost Recovery and Liability Analysis Section, 4224, Environmental Protection Agency, 1595 Wynkoop Ave., Denver, CO 80202; telephone number: (303) 312-6124; email address: edmunds.crystal@epa.gov.

SUPPLEMENTARY INFORMATION:

Correction

In the Federal Register of August 1, 2023, at 88 FR 50149, in FR Doc. 2023-16219, on page 50149:

1. In the second column, in the heading, correct the “Agency Docket Number” reading “EPA-R05-SFUND-2023-0334” to read “EPA-R08-SFUND-2023-0334”; and

2. In Supplementary Information, in the third column, at the end of the seventh line, add a parenthesis after “costs.” to read “costs.”). “

Ben Bielenberg,
Acting Division Director, Superfund and Emergency Management Division, Region 8.

[FR Doc. 2023-17553 Filed 8-15-23; 8:45 am]

BILLING CODE 6560-50-P